FEDERAL MARITIME COMMISSION

[Docket No. 22-08]

Achim Importing Company Inc., Complainant v. Yang Ming Marine Transport Corporation, Respondent; Notice of Filing of Complaint and Assignment

Served: March 31, 2022.

Notice is given that a complaint has been filed with the Federal Maritime Commission (Commission) by Achim Importing Company Inc., hereinafter “Complainant”, against Yang Ming Marine Transport Corporation, hereinafter “Respondent”. Complainant alleges that Respondent Yang Ming Marine is a Taiwanese company and a vessel-operating ocean common carrier.

Complainant alleges that Respondents violated 46 U.S.C. 41102(b), 41102(c), 41104(a)(2), 41104(a)(5), 41104(a)(9), and 41104(a)(10) with regard to refusal to provide space on their vessels. The full text of the complaint can be found in the Commission's Electronic Reading Room at https://www2.fmc.gov/readingroom/proceeding/22-08/.

This proceeding has been assigned to Office of Administrative Law Judges. The initial decision of the presiding office in this proceeding shall be issued by March 31, 2023, and the final decision of the Commission shall be issued by October 16, 2023.

William Cody,
Secretary.

[FR Doc. 2022-07177 Filed 4-5-22; 8:45 am]

BILLING CODE 6730-02-P